DEPARTMENT OF ENERGY

Federal Energy Regulatory Commission

Notice of Intent To Hold Public Meetings and Hear Public Comment on the Proposed Broadwater LNG Project Draft Environmental Impact Statement

December 15, 2006

Broadwater Energy LLC | Docket No. CP06-054-000
Broadwater Pipeline LLC | Docket No. CP06-055-000

On November 17, 2006, Commission staff delivered the Draft Environmental Impact Statement (draft EIS) for the proposed Broadwater LNG Project to the Environmental Protection Agency and mailed it to resource and land management agencies, interested organizations, and individuals. The draft EIS addresses the proposal to construct and operate a liquefied natural gas (LNG) import terminal and natural gas pipeline (referred to as the Broadwater LNG Project) proposed by Broadwater Energy LLC and Broadwater Pipeline LLC (jointly referred to as Broadwater) in the above-referenced dockets.

The draft EIS was noticed in the Federal Register on November 27, 2006 (71 FR 68597-68599). The public comment deadline is January 23, 2007. In addition to or in lieu of sending written comments, we along with the U.S. Army Corps of Engineers New York District (USACE) invite you to attend the public comment meetings that we will conduct in January 2007 at the following locations:

Date and time | Location
Tuesday, January 9, 2007, 7 p.m. to 10 p.m. | Mitchell College, Clarke Auditorium 437 Pequot Avenue—New London, CT, Phone: (860) 701-5000.
Wednesday, January 10, 2007, 7 p.m. to 10 p.m | Smithtown West High School Auditorium, 100 Central Road—Smithtown, NY, Phone: (631) 382-2117.
Thursday, January 11, 2007, 7 p.m. to 10 p.m. | Shoreham-Wading River Middle School Auditorium, 100 Randall Road—Shoreham, NY Phone: (631) 821-8268.
Tuesday, January 16, 2007, 7 p.m. to 10 p.m. | Branford High School Auditorium, 18 East Main Street—Branford, CT,Phone: (203) 488-7291.

The locations and times of these meetings will also be posted on the Commission's calendar located at fnl;http:/www.ferc.gov/EventCalendar/EventsList.aspx along with other relevant information. The U.S. Coast Guard will participate in these public meetings since it plans to adopt all or pertinent portions of this EIS to satisfy the NEPA review requirements for its letter of recommendation (LOR) action. The public meetings will also support the review of Broadwater's permit application that is before the USACE. The New York State Department of State (DOS) will participate in the public meetings at Smithtown and Shoreham, NY in order to assist in the DOS review of the proposal for its consistency with the New York Coastal Management Program as it is reflected in the Long Island Sound Regional Coastal Management Program. For those unable to attend and make statements at the New York meetings, they may send written comments to DOS addressed to the Consistency Review Unit, Division of Coastal Resources, New York State Department of State, 41 State Street, Albany, NY 12231 (Telephone (518) 474-6000; Fax (518) 473-2464). DOS will receive comments until January 23, 2007. Interested groups and individuals are encouraged to attend the public comment meetings and present oral comments on the draft EIS. A transcript of the meetings will be prepared and submitted to the docket for public review.

This announcement supplements the USACE public notice, dated November 24, 2006, on the Broadwater permit application which can be found on the USACE Web site at http://www.nan.usace.army.mil/business/buslinks/regulat/pnotices/200600265.pdf. The Corps will be in attendance at the public meetings in order to hear comments on the permit application submitted by Broadwater. These public meetings will meet USACE requirements for public hearings, as found in Title 33 Code of Federal Regulations, Part 327. In addition, USACE has extended the public notice comment period on its permit application until January 26, 2007. Note that the comment period to FERC in response to the draft EIS remains unchanged.

Due to the large interest in the Project, the start and end times for the meetings must be strictly adhered to. We expect to have numerous attendees and speakers at each of the four meetings. Based on the attendance at previous meetings, commentors may be required to limit verbal presentations to no more than 5 minutes or less; therefore, we request you structure your comments so that they are as specific and concise as possible. This will allow us to accommodate all who are interested in speaking. If you would prefer, you may submit written comments at the public meeting or directly to the FERC docket at your convenience. Oral comments will not receive greater attention than written comments. We will address oral and written comments equally.

The Commission strongly encourages electronic filing of your comments. For information on electronically filing comments, please see the instructions on the Commission's Web site at http://www.ferc.gov under the “e-Filing” link and the link to the User's Guide as well as information in 18 CFR 385.2001(a)(1)(iii). Before you can file comments you will need to create a free account, which can be accomplished on-line.

The draft EIS has been placed in the public files of the FERC and is available for distribution and public inspection at: Federal Energy Regulatory Commission, Public Reference Room, 888 First Street, NE., Room 2A, Washington, DC 20426, (202) 502-8371.

CD-ROM copies of the draft EIS were mailed to federal, state, and local agencies; public interest groups; individuals who requested a copy of the draft EIS or provided comments during scoping; libraries and newspapers in the Project area; and parties to this proceeding. Hard copy versions of the draft EIS were mailed to those specifically requesting them. A limited number of hard copies and CD-ROMs are available from the Public Reference Room identified above.

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E6-21961 Filed 12-21-06; 8:45 am]

BILLING CODE 6717-01-P